ENVIRONMENTAL PROTECTION AGENCY

[EPA-HQ-OAR-2006-0407; FRL-9994-21-OMS]

Information Collection Request Submitted to OMB for Review and Approval; Comment Request; EPA's ENERGY STAR Program in the Commercial and Industrial Sectors (Renewal)

AGENCY: Environmental Protection Agency (EPA).

ACTION: Notice.

SUMMARY: The Environmental Protection Agency (EPA) has submitted an information collection request (ICR), EPA's ENERGY STAR Program in the Commercial and Industrial Sectors (EPA ICR Number 1772.08, OMB Control Number 2060-0347), to the Office of Management and Budget (OMB) for review and approval in accordance with the Paperwork Reduction Act. This is a proposed revision of the ICR, which is currently approved through September 30, 2019. Public comments were previously requested via the Federal Register on December 13, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before October 28, 2019.

ADDRESSES: Submit your comments, referencing Docket ID Number EPA-HQ-OAR-2006-0407, to (1) EPA online using www.regulations.gov (our preferred method), by email to a-and-r-docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Cynthia Veit, Climate Protection Partnerships Division, (6202A), Environmental Protection Agency, 1200 Pennsylvania Ave. NW, Washington, DC 20460; telephone number: 202-564-9494; fax number: 202-343-2204; email address: veit.cynthia@epa.gov.

SUPPLEMENTARY INFORMATION: Supporting documents, which explain in detail the information that the EPA will be collecting, are available in the public docket for this ICR. The docket can be viewed online at www.regulations.gov or in person at the EPA Docket Center, WJC West Building, Room 3334, 1301 Constitution Ave. NW, Washington, DC. The telephone number for the Docket Center is 202-566-1744. For additional information about EPA's public docket, visit http://www.epa.gov/dockets.

Abstract: EPA created ENERGY STAR as a voluntary program to help businesses and individuals protect the environment through superior energy efficiency. The program focuses on reducing utility-generated emissions by reducing the demand for energy. In 1991, EPA launched the Green Lights Program to encourage corporations, state and local governments, colleges and universities, and other organizations to adopt energy-efficient lighting as a profitable means of preventing pollution and improving lighting quality. Since then, EPA has rolled Green Lights into ENERGY STAR and expanded ENERGY STAR to encompass organization-wide energy performance improvement, such as building technology upgrades, product purchasing initiatives, and employee training. At the same time, EPA has streamlined the reporting requirements of ENERGY STAR and focused on providing incentives for improvements (e.g., ENERGY STAR Awards Program).

To join ENERGY STAR, organizations are asked to complete a Partnership Agreement that establishes their commitment to energy efficiency. Partners agree to undertake efforts such as measuring, tracking, and benchmarking their organization's energy performance by using tools such as those offered by ENERGY STAR; developing and implementing a plan to improve energy performance in their facilities and operations by adopting a strategy provided by ENERGY STAR; and educating staff and the public about their Partnership with ENERGY STAR, and highlighting achievements with the ENERGY STAR, where available. In addition, Partners and any other interested party can evaluate the efficiency of their buildings using EPA's online tools (e.g., Portfolio Manager) and apply for recognition.

Form numbers: 5900-19, 5900-22, 5900-89, 5900-195, 5900-197, 5900-198, 5900-262, 5900-263, 5900-264, 5900-265, 5900-382, 5900-383, 5900-387, 5900-436 and 5900-437.

Respondents/affected entities: EPA's ENERGY STAR Program in the Commercial and Industrial Sectors.

Respondent's obligation to respond: Voluntary.

Estimated number of respondents: 37,021 (total).

Frequency of response: One-time, annually, or on occasion.

Total estimated burden: 210,306 hours (per year). Burden is defined at 5 CFR 1320.03(b).

Total estimated cost: $14,859,991 (per year), includes $5,034,450 in annualized capital or operation & maintenance costs.

Changes in the estimates: There is a decrease of 43,778 hours in the total estimated respondent burden compared with the ICR currently approved by OMB. This decrease is due in part to program enhancements and clarifications. The decrease is also due to EPA's adjustments to its burden estimates. For example, EPA adjusted its analysis of its online tool, Portfolio Manager, to reflect data indicating that, although use of the tool is increasing, users are spending less time per building benchmarked, on average, than in the past.

Courtney Kerwin,
Director, Collection Strategies Division.

[FR Doc. 2019-20943 Filed 9-25-19; 8:45 am]

BILLING CODE 6560-50-P